DEPARTMENT OF COMMERCE

National Oceanic and Atmospheric Administration

RIN 0648-XF481

Pacific Fishery Management Council; Public Meeting

AGENCY: National Marine Fisheries Service (NMFS), National Oceanic and Atmospheric Administration (NOAA), Commerce.

ACTION: Notice of public meeting (webinar).

SUMMARY: The Pacific Fishery Management Council's (Pacific Council) Salmon Technical Team (STT) will hold a webinar, which is open to the public, to develop a plan and timeline to review inquiries to change the commercial salmon troll fishery boundary in two different areas.

DATES: The webinar will be held on Wednesday, June 28, 2017, from 9 a.m. until noon, or until business for the day is complete.

ADDRESSES: To attend the webinar, visit: https://global.gotomeeting.com/join/837202733. Enter the Webinar ID, which is 837-202-733, and your name and email address (required). After logging in to the webinar, please: dial this TOLL number +1 (872) 240-3212 (not a toll-free number), enter the attendee phone audio access code 837-202-733, and then enter your audio phone pin (shown after joining the webinar). Participants are encouraged to use their telephone, as this is the best practice to avoid technical issues and excessive feedback. (See the PFMC GoToMeeting Audio Diagram for best practices). System Requirements for PC-based attendees: Required: Windows® 7, Vista, or XP; for Mac®-based attendees: Required: Mac OS® X 10.5 or newer; and for mobile attendees: iPhone®, iPad®, Android™ phone or Android tablet (See the GoToMeeting Webinar Apps).

You may send an email to kris.kleinschmidt@noaa.gov or contact him at (503) 820-2280, extension 411 for technical assistance. A public listening station will also be provided at the Pacific Council office.

Council address: Pacific Council, 7700 NE Ambassador Place, Suite 101, Portland, OR 97220-1384.

FOR FURTHER INFORMATION CONTACT: Ms. Robin Ehlke, Pacific Council; telephone: (503) 820-2410.

SUPPLEMENTARY INFORMATION: In April 2017, the Pacific Council heard a request to move the commercial salmon troll fishery boundary at Horse Mountain (40°05′00″ N Latitude) northward five miles (40°10'00” N Latitude.) The STT was asked by the Pacific Council to investigate any technical issues that may arise from such a move. Since that time, Oregon Department of Fish and Wildlife has asked the Pacific Council to review its plan to adjust the commercial salmon troll fishery boundary between the north Oregon and central Oregon management zones. It is anticipated the STT will develop a work plan and timeline needed to conduct the analysis and produce a report for Pacific Council review. If time and interest allows, the team may also discuss additional topics, including but not limited to developing a Council Operating Procedure to help guide future requests for a boundary-change. Public comments during the webinar will be received from attendees at the discretion of the STT Chair.

Although non-emergency issues not contained in the meeting agenda may be discussed, those issues may not be the subject of formal action during this meeting. Action will be restricted to those issues specifically listed in this document and any issues arising after publication of this document that require emergency action under section 305(c) of the Magnuson-Stevens Fishery Conservation and Management Act, provided the public has been notified of the intent to take final action to address the emergency.

Special Accommodations

The meeting is physically accessible to people with disabilities. Requests for sign language interpretation or other auxiliary aids should be directed to Mr. Kris Kleinschmidt at (503) 820-2411 at least 10 days prior to the meeting date.

Dated: June 7, 2017.
Tracey L. Thompson,
Acting Deputy Director, Office of Sustainable Fisheries, National Marine Fisheries Service.

[FR Doc. 2017-12073 Filed 6-9-17; 8:45 am]

BILLING CODE 3510-22-P